DEPARTMENT OF HOMELAND SECURITY

Federal Emergency Management Agency

[Docket ID FEMA-2017-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Dated: December 13, 2017.
Roy E. Wright,
Deputy Associate Administrator for Insurance and Mitigation, Department of Homeland Security, Federal Emergency Management Agency.

State and county | Location and case No. | Chief executive officer of community | Community map repository | Date of modification | Community No.
Arizona:
Maricopa (FEMA Docket No.: B-1739) | City of Phoenix (17-09-1054P) | The Honorable Greg Stanton, Mayor, City of Phoenix, 200 West Washington Street, 11th Floor, Phoenix, AZ 85003 | Street Transportation Department, 200 West Washington Street, 5th Floor, Phoenix, AZ 85003 | Nov. 10, 2017 | 040051
Maricopa (FEMA Docket No.: B-1734) | City of Tempe (17-09-0156P) | The Honorable Mark Mitchell, Mayor, City of Tempe, P.O. Box 5002, Tempe, AZ 85280 | City Hall Engineering Department, 31 East 5th Street, Tempe, AZ 85281 | Sep. 29, 2017 | 040054
Maricopa (FEMA Docket No.: B-1743) | Town of Fountain Hills (17-09-0546P) | The Honorable Linda M. Kavanagh, Mayor, Town of Fountain Hills, 16705 East Avenue of the Fountains, Fountain Hills, AZ 85268 | Town Hall, 16836 East Palisades Boulevard, Fountain Hills, AZ 85268 | Nov. 24, 2017 | 040135
Mohave (FEMA Docket No.: B-1743) | Unincorporated Areas of Mohave County (17-09-0550P) | The Honorable Gary Watson, Chairman, Board of Supervisors Mohave County, 700 West Beale Street, Kingman, AZ 86401 | Mohave County Administration Building, 700 West Beale Street, Kingman, AZ 86401 | Nov. 24, 2017 | 040058
Pima (FEMA Docket No.: B-1737) | Town of Marana (17-09-0328P) | The Honorable Ed Honea, Mayor, Town of Marana, 11555 West Civic Center Drive, Marana, AZ 85653 | Engineering Department, 11555 West Civic Center Drive, Marana, AZ 85653 | Oct. 20, 2017 | 040118
Pima (FEMA Docket No.: B-1737) | Unincorporated Areas of Pima County (17-09-0328P) | The Honorable Sharon Bronson, Chair, Board of Supervisors Pima County, 130 West Congress Street, 11th Floor, Tucson, AZ 85701 | Pima County Flood Control District, 201 North Stone Avenue, 9th Floor, Tucson, AZ 85701 | Oct. 20, 2017 | 040073
Pinal (FEMA Docket No.: B-1734) | Unincorporated Areas of Pinal County (16-09-0931P) | The Honorable Stephen Miller, Chairman, Board of Supervisors Pinal County, 135 North Pinal Street, Florence, AZ 85132 | Pinal County Engineering Department, 31 North Pinal Street, Building F, Florence, AZ 85132 | Sep. 22, 2017 | 040077
California:
Fresno (FEMA Docket No.: B-1734) | City of Clovis (17-09-0445P) | The Honorable Bob Whalen, Mayor, City of Clovis, 1033 5th Street, Clovis, CA 93612 | Building Division, 1033 5th Street, Clovis, CA 93612 | Oct. 2, 2017 | 060044
Los Angeles (FEMA Docket No.: B-1734) | City of Santa Clarita (17-09-0916P) | The Honorable Cameron Smyth, Mayor, City of Santa Clarita, 23920 Valencia Boulevard, Suite 300, Santa Clarita, CA 91355 | City Hall Planning Department, 23920 Valencia Boulevard, Suite 300, Santa Clarita, CA 91355 | Oct. 6, 2017 | 060729
Riverside (FEMA Docket No.: B-1737) | Agua Caliente Band of Cahuilla Indian Reservation (16-09-1551P) | The Honorable Jeff L. Grubbe, Chairman, Agua Caliente Band of Cahuilla Indians, 5401 Dinah Shore Drive, Palm Springs, CA 92264 | Planning and Natural Resources, 5401 Dinah Shore Drive, Palm Springs, CA 92264 | Oct. 20, 2017 | 060763
Riverside (FEMA Docket No.: B-1737) | City of Cathedral City (16-09-1551P) | The Honorable Stanley E. Henry, Mayor, City of Cathedral City, 68700 Avenida Lalo Guerrero, Cathedral City, CA 92234 | Engineering Department, 68700 Avenida Lalo Guerrero, Cathedral City, CA 92234 | Oct. 20, 2017 | 060704
Riverside (FEMA Docket No.: B-1737) | City of Palm Springs (16-09-1551P) | The Honorable Robert Moon, Mayor, City of Palm Springs, 3200 East Tahquitz Canyon Way, Palm Springs, CA 92262 | City Hall, 3200 East Tahquitz Canyon Way, Palm Springs, CA 92262 | Oct. 20, 2017 | 060257
San Joaquin (FEMA Docket No.: B-1737) | City of Lathrop (17-09-0203P). | The Honorable Sonny Dhaliwal, Mayor, City of Lathrop, 390 Towne Centre Drive, Lathrop, CA 95330 | City Hall, 390 Towne Centre Drive, Lathrop, CA 95330 | Oct. 23, 2017 | 060738
Florida: Duval (FEMA Docket No.: B-1743) | City of Jacksonville (17-04-3389P) | The Honorable Lenny Curry, Mayor, City of Jacksonville City Hall at St. James Building, 117 West Duval Street, Suite 400, Jacksonville, FL 32202 | City Hall, 117 West Duval Street, Jacksonville, FL 32202 | Nov. 2, 2017 | 120077
Idaho:
Ada (FEMA Docket No.: B-1737) | City of Boise (17-10-0875P) | The Honorable David H. Bieter, Mayor, City of Boise, P.O. Box 500, Boise, ID 83701 | Planning and Development Services, City Hall, 150 North Capital Boulevard, Boise, ID 83701 | Oct. 13, 2017 | 160002
Kootenai (FEMA Docket No.: B-1737) | City of Coeur d'Alene (17-10-0479P) | The Honorable Steve Widmyer, Mayor, City of Coeur d'Alene, Coeur d'Alene City Hall, 710 East Mullan Avenue, Coeur d'Alene, ID 83814 | City Hall Planning Department, 710 East Mullan Avenue, Coeur d'Alene, ID 83814 | Oct. 17, 2017 | 160078
Kootenai (FEMA Docket No.: B-1737) | Unincorporated Areas of Kootenai County (17-10-0479P) | Mr. Marc Eberlein, Chairman, Board of Commissioners Kootenai County, 451 Government Way, Coeur d'Alene, ID 83814 | Assessors Department Kootenai County Court House, 451 Government Way, Coeur d'Alene, ID 83816 | Oct. 17, 2017 | 160076
Illinois: Kane (FEMA Docket No.: B-1734) | Village of Carpentersville (17-05-1258P) | The Honorable John Skillman, Village President, Village of Carpentersville, 1200 L.W. Besinger Drive, Carpentersville, IL 60110 | Village Hall, 1200 L.W. Besinger Drive, Carpentersville, IL 60110 | Oct. 5, 2017 | 170322
Indiana: Marion (FEMA Docket No.: B-1739) | City of Indianapolis (17-05-3161P) | The Honorable Joe Hogsett, Mayor, City of Indianapolis, 2501 City-County Building, 200 East Washington Street, Indianapolis, IN 46204 | City Hall, 1200 Madison Avenue, Suite 100, Indianapolis, IN 46225 | Oct. 26, 2017 | 180159
Kansas: Johnson (FEMA Docket No.: B-1734) | City of Overland Park (16-07-1770P) | The Honorable Carl Gerlach, Mayor, City of Overland Park, 8500 Santa Fe Drive, Overland Park, KS 66212 | City Hall, 8500 Santa Fe Drive, Overland Park, KS 66212 | Sep. 14, 2017 | 200174
Minnesota:
Anoka (FEMA Docket No.: B-1737) | City of Coon Rapids (17-05-2891P) | The Honorable Jerry Koch, Mayor, City of Coon Rapids, Coon Rapids City Hall, 11155 Robinson Drive, Coon Rapids, MN 55433 | City Hall, 11155 Robinson Drive, Coon Rapids, MN 55433 | Oct. 6, 2017 | 270011
Norman (FEMA Docket No.: B-1737) | City of Ada (17-05-1647P) | The Honorable Jim Ellefson, Mayor, City of Ada, Ada City Hall, 15 4th Avenue East, Ada, MN 56510 | City Hall, 15 4th Avenue East, Ada, MN 56510 | Sep. 20, 2017 | 270323
Norman (FEMA Docket No.: B-1737) | Unincorporated Areas of Norman County (17-05-1647P) | Mr. Marvin Gunderson, Chairman, Norman County Commissioners, Norman County Courthouse, 16 3rd Avenue East, Ada, MN 56510 | Norman County Courthouse, 16 3rd Avenue East, Ada, MN 56510 | Sep. 20, 2017 | 270322
Missouri: St. Louis (FEMA Docket No.: B-1739) | City of Chesterfield (17-07-0810P) | The Honorable Bob Nation, Mayor, City of Chesterfield, 690 Chesterfield Parkway West, Chesterfield, MO 63017 | Chesterfield Municipal Court, 690 Chesterfield Parkway West, Chesterfield, MO 63017 | Oct. 17, 2017 | 290896
Nebraska: Buffalo (FEMA Docket No.: B-1739) | City of Kearney (17-07-1116P) | The Honorable Stanley Clouse, Mayor, City of Kearney, 18 East 22nd Street, Kearney, NE 68847 | City Hall, 18 East 22nd Street, Kearney, NE 68847 | Oct. 25, 2017 | 310016
Nevada: Nye (FEMA Docket No.: B-1737) | Unincorporated Areas of Nye County (17-09-1129P) | The Honorable Dan Schinhofen, Chairman, Board of Commissioners, Nye County, 2100 East Walt Williams Drive, Suite 100, Pahrump, NV 89048 | Nye County Department of Planning, 250 North Highway 160, Suite 1, Pahrump, NV 89060 | Oct. 26, 2017 | 320018
New Jersey: Ocean (FEMA Docket No.: B-1743) | Borough of Mantoloking (17-02-1077P) | The Honorable George C. Nebel, Mayor, Borough of Mantoloking, 340 Drum Point Road, Second Floor, Brick, NJ 08723 | Mantoloking Borough Municipal Building, 202 Downer Avenue, Mantoloking, NJ 08738 | Nov. 10, 2017 | 340383
Ohio: Stark (FEMA Docket No.: B-1737) | Unincorporated Areas of Stark County (17-05-1880P) | The Honorable Janet Weir Creighton, President, Board of Stark County Commissioners, 110 Central Plaza South, Suite 240, Canton, OH 44702 | Stark County Office Building, 110 Central Plaza South, Canton, OH 44702 | Oct. 11, 2017 | 390780
Oregon:
Lane (FEMA Docket No.: B-1737) | City of Springfield (16-10-1640P) | The Honorable Christine Lundberg, Mayor, City of Springfield, Springfield City Hall, 225 5th Street, Springfield, OR 97477 | Planning Department, 225 5th Street, Springfield, OR 97477 | Oct. 17, 2017 | 415592
Lane (FEMA Docket No.: B-1737) | Unincorporated Areas of Lane County (16-10-1640P) | Mr. Sid Leiken, Commissioner, Lane County, Lane County Public Service Building, 125 East 8th Avenue, Eugene, OR 97401 | Lane County Planning Department Public Service Building, 125 East 8th Avenue, Eugene, OR 97401 | Oct. 17, 2017 | 415591
Tennessee:
Hamilton (FEMA Docket No.: B-1739) | City of Chattanooga (17-04-1553P) | The Honorable Andy Berke, Mayor, City of Chattanooga, 101 East 11th Street, Chattanooga, TN 37402 | Planning Department, 1250 Market Street, Chattanooga, TN 37402 | Oct. 31, 2017 | 470072
Smith (FEMA Docket No.: B-1734) | Unincorporated Areas of Smith County (16-04-7918P) | The Honorable Michael Nesbitt, Mayor, Smith County, 122 Turner High Circle, Carthage, TN 37030 | Smith County Turner Building, 122 Turner High Circle, Carthage, TN 37030 | Sep. 22, 2017 | 470283
Trousdale (FEMA Docket No.: B-1734) | Unincorporated Areas of Trousdale County (16-04-7918P) | The Honorable Carroll Carman, Mayor, Trousdale County, 328 Broadway, Room 6-10, Hartsville, TN 37074 | Trousdale County Sheriff Department, 210 Broadway, Hartsville, TN 37074 | Sep. 22, 2017 | 470192
Williamson (FEMA Docket No.: B-1743) | City of Franklin (17-04-2518P) | The Honorable Ken Moore, Mayor, City of Franklin, 109 3rd Avenue South, Franklin, TN 37064 | City Hall Code Department, 109 3rd Avenue South, Franklin, TN 37064 | Oct. 27, 2017 | 470206
Texas:
Collin (FEMA Docket No.: B-1743) | City of Garland (17-06-2211P) | The Honorable Douglas Athas, Mayor, City of Garland, 200 North 5th Street, Garland, TX 75040 | City Hall, 800 Main Street, Garland, TX 75040 | Nov. 9, 2017 | 485471
Collin (FEMA Docket No.: B-1743) | City of Plano (17-06-2211P) | The Honorable Harry LaRosiliere, Mayor, City of Plano, 1520 K Avenue, Plano, TX 75074 | City Hall Engineering Department, 1520 K Avenue, Plano, TX 75074 | Nov. 9, 2017 | 480140
Collin (FEMA Docket No.: B-1743) | City of Richardson (17-06-2211P) | The Honorable Paul Voelker, Mayor, City of Richardson, 411 West Arapaho Road, Richardson, TX 75080 | Civic Center/City Hall, 411 West Arapaho Road, Room 204, Richardson, TX 75080 | Nov. 9, 2017 | 480184
Dallas (FEMA Docket No.: B-1737) | City of Dallas (17-06-1494P) | The Honorable Michael S. Rawlings, Mayor, City of Dallas, 1500 Marilla Street, Suite 5en, Dallas, TX 75201 | City Hall, 320 East Jefferson Boulevard, Room 321, Dallas, TX 75203 | Oct. 12, 2017 | 480171
Washington:
King (FEMA Docket No.: B-1737) | City of Lake Forest Park (17-10-0060P) | The Honorable Jeff Johnson, Mayor, City of Lake Forest Park City Hall, 17425 Ballinger Way Northeast, Lake Forest Park, WA 98155 | City Hall, 17425 Ballinger Way Northeast, Lake Forest Park, WA 98155 | Oct. 10, 2017 | 530082
Whatcom (FEMA Docket No.: B-1737) | City of Bellingham (17-10-0520P) | The Honorable Kellie Linville, Mayor, City of Bellingham, 210 Lottie Street, Bellingham, WA 98225 | Public Works/Engineering Department City Hall, 210 Lottie Street, Bellingham, WA 98225 | Oct. 18, 2017 | 530199
Wisconsin:
Brown (FEMA Docket No.: B-1739) | Village of Bellevue (17-05-2419P) | Mr. Steve Soukup, President, Bellevue Village Board, Village of Bellevue, 2828 Allouez Avenue, Bellevue, WI 54311 | Village Hall, 2828 Allouez Avenue, Bellevue, WI 54311 | Oct. 20, 2017 | 550627
Outagamie (FEMA Docket No.: B-1734) | City of Appleton (17-05-1963P) | The Honorable Timothy Hanna, Mayor, City of Appleton, 100 North Appleton Street, Appleton, WI 54911 | City Hall, 100 North Appleton Street, Appleton, WI 54911 | Sep. 29, 2017 | 555542
Waukesha (FEMA Docket No.: B-1734) | Village of Sussex (17-05-0632P) | The Honorable Gregory L. Goetz, President, Village of Sussex, N64W23760 Main Street, Sussex, WI 53089 | Village Hall, N64W23760 Main Street, Sussex, WI 53089 | Sep. 15, 2017 | 550490

[FR Doc. 2017-28183 Filed 12-28-17; 8:45 am]

BILLING CODE 9110-12-P